DEPARTMENT OF TRANSPORTATION

Maritime Administration

[USCG-2006-26009]

Calypso LNG L.L.C., Liquefied Natural Gas Deepwater Port License Application; Final Environmental Impact Statement

AGENCY: Maritime Administration, DOT.

ACTION: Notice of availability; request for comments.

SUMMARY: The Maritime Administration and the U.S. Coast Guard (USCG) announce the availability of the Final Environmental Impact Statement (FEIS) for the Calypso LNG L.L.C., Liquefied Natural Gas Deepwater Port license application. The application describes a project that would be located in the Federal waters of the Outer Continental Shelf in the OCS NG 17-06 (Bahamas) lease area, approximately 8 to 10 miles off the east coast of Florida to the northeast of Port Everglades, in a water depth of 800 to 950 feet. The Coast Guard and the Maritime Administration request public comments on the FEIS. Publication of this notice begins a 45 day comment period and provides information on how to participate in the process.

An announcement of the public hearing for matters relevant to the approval, denial, or approval with conditions of the license application will be published in the future and will include another opportunity to provide comments.

DATES: Material submitted in response to the request for comments on the FEIS must reach the Docket Management Facility by September 2, 2008, ending the 45 day public comment period.

As stated above, this notice is for the availability of the Final Environmental Impact Statement for the project. We will announce the date and location for the final public hearing and once again provide the opportunity to comment. The 45 day period for Federal and State agencies' comments, recommended conditions for licensing, or letters of no objection; and the 45 day period for the Governor of Florida's (the adjacent coastal state) communication to approve, disapprove, or notify the Maritime Administration of inconsistencies with State programs relating to environmental protection, land and water use, and coastal zone management for which the Maritime Administration may condition the license to make consistent will not be affected by the publication of the FEIS and will occur after the final public hearing.

In addition, the 90 day period by which the Maritime Administration must issue a record of decision (ROD) to approve, approve with conditions, or deny the DWP license application will not be affected by the publication of the FEIS and will occur 90 days after the public hearing on the application as described above.

ADDRESSES: The FEIS, the application, comments and associated documentation is available for viewing at the Federal Docket Management System Web site: http://www.regulations.gov under docket number USCG-2006-26009. The FEIS is also available at public libraries in Fort Lauderdale area (Broward County Library which is a federal depository library and Riverland Library in Fort Lauderdale; Dania Beach Library—Paul DeMaio Branch in Dania Beach; Davie/Cooper City Library in Davie; Helen B. Hoffman Plantation Library and West Regional Library in Plantation; Hollywood Library in Hollywood, and Pembroke Pines Library in Pembroke Pines) and Florida State University Marine Laboratory in Sopchoppy, Florida.

Docket submissions for USCG-2006-26009 should be addressed to: Department of Transportation, Docket Management Facility, 1200 New Jersey Avenue, SE., West Building, Ground Floor, Room W12-140, Washington, DC 20590-0001.

The Federal Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://www.regulations.gov.

FOR FURTHER INFORMATION CONTACT: LT Hannah Kim, U.S. Coast Guard, telephone: 202-372-1438, e-mail: Hannah.Kim@uscg.mil. If you have questions on viewing the docket, call Renee V. Wright, Program Manager, Docket Operations, telephone: 202-493-0402.

SUPPLEMENTARY INFORMATION:

Request for Comments

We request public comments or other information on the FEIS and application. You can submit comments to the Docket Management Facility during the public comment period (see DATES). The Coast Guard and the Maritime Administration will consider all comments and material received during the comment period.

Submissions should include:

• Docket number USCG-2006-26009.

• Your name and address.

Submit comments or material using only one of the following methods:

• Electronic submission to FDMS, http://www.regulations.gov.

• Fax, mail, or hand delivery to the Docket Management Facility (see ADDRESSES ). Faxed or hand delivered submissions must be unbound, no larger than 81/2 by 11 inches, and suitable for copying and electronic scanning. If you mail your submission and want to know when it reaches the Facility, include a stamped, self-addressed postcard or envelope.

Regardless of the method used for submitting comments or material, all submissions will be posted, without change, to the FDMS website (http://www.regulations.gov), and will include any personal information you provide. Therefore, submitting this information makes it public. You may wish to read the Privacy Act notice that is available on the FDMS Web site, or the Department of Transportation Privacy Act Statement that appeared in the Federal Register on April 11, 2000 (65 FR 19477).

You may view docket submissions at the Federal Docket Management Facility (see ADDRESSES ), electronically on the FDMS Web site, or later in this notice (see Privacy Act).

Background

Information about deepwater ports, the statutes, and regulations governing their licensing, and the receipt of the current application for a liquefied natural gas (LNG) deepwater port appears in Volume 71 FR 65031, Monday, November 6, 2006. The Notice of Intent to Prepare an EIS for the proposed action was published in Volume 71 FR 67422, Tuesday, November 21, 2006 and the Notice of Availability of the Draft EIS was published in Volume 72 FR 62303, Friday, November 2, 2007. The FEIS, application materials and associated comments are available on the docket. Information from the “Summary of the Application” from previous Federal Register notices is included below for your convenience.

Proposed Action and Alternatives

The proposed action requiring environmental review is the Federal licensing of the proposed deepwater port described in “Summary of the Application” below. The alternatives to licensing the proposed port are: (1) licensing with conditions (including conditions designed to mitigate environmental impact), and (2) denying the application, which for purposes of environmental review is the “no-action” alternative. These alternatives are more fully discussed in the FEIS. The Coast Guard and the Maritime Administration are the lead Federal agencies for the preparation of the EIS. You can address any questions about the proposed action or the FEIS to the Coast Guard project manager identified in FOR FURTHER INFORMATION CONTACT.

Summary of the Application

Calypso LNG L.L.C., proposes to own, construct, and operate a deepwater port, named Calypso, in the Federal waters of the Outer Continental Shelf in the OCS NG 17-06 (Bahamas) lease area, approximately 8 to 10 miles off the east coast of Florida, to the northeast of Port Everglades, in a water depth of approximately 800 to 950 feet. Calypso would consist of a permanently moored unloading buoy system with two (2) submersible buoys separated by a distance of approximately three (3) miles. Each unloading buoy would be permanently secured to eight (8) or nine (9) mooring lines, consisting of wire rope, chain, and buoyancy elements, each attached to anchor points on the sea bed. Anchor points would consist of a combination of suction piles and gravity anchors.

The buoys would be designed to moor and unload (i) transport and regasification vessels (TRVs) and (ii) a storage and regasification ship (SRS). TRVs would be drawn from the existing and future global fleet as compatible with the unloading buoy system. A TRV would moor at the east buoy for four (4) to seven (7) days. When empty it would disconnect from the buoy and leave the port, followed by another full TRV that would arrive and connect to the buoy. The SRS would be a specialized, purpose built LNG carrier designed to accept LNG from conventional LNG carriers from the existing and future global fleet. The SRS would normally remain attached to its mooring buoy. To sustain continuous vaporization, the SRS' cargo tanks would be refilled approximately every two (2) to four (4) days by LNG carriers. The SRS would detach from the buoy if threatened by a severe storm, such as a hurricane, and move under its own power to safety; then return and reconnect to the buoy and continue operations once the storm danger passed.

Both vessels would be equipped to vaporize LNG cargo to natural gas through an onboard closed loop shell-and-tube vaporization system, and to odorize and meter gas for send-out by means of the unloading buoy to conventional subsea pipelines. The mooring buoys would be connected through the hull of the vessels to specially designed turrets that would enable the vessel to weathervane or rotate in response to prevailing winds, waves, and the current directions. When the vessels are not present the buoys would be submerged approximately 100 feet below the surface.

The unloading buoys would connect through flexible risers and two (2) approximately 2.5 mile long 30-inch flow lines located on the seabed that would connect directly to the Calypso pipeline, a Federal Energy Regulatory Commission (FERC) permitted pipeline, yet to be constructed which would then connect to existing onshore pipeline system.

Calypso would be capable of delivering natural gas in a continuous flow by having at least one TRV or the SRS regasifying at all times. The system would be designed so that a TRV and the SRS can regasify simultaneously for concurrent unloading of natural gas. Calypso would have an average throughput capacity of approximately 1.1 billion standard cubic feet per day (bcsfd) and a peak delivery capacity of 1.9 bcsfd.

Existing onshore delivery systems would be utilized and no new construction of onshore pipelines or LNG storage facilities are included as part of the proposed deepwater port. Existing shore based infrastructure will be used to facilitate movement of personnel, equipment, supplies, and disposable materials between the deepwater port and shore.

Construction of the deepwater port would be expected to take three (3) years should a license be issued. The deepwater port, if licensed, would be designed, constructed and operated in accordance with applicable codes and standards and would have an expected operating life of approximately 25 years.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

Authority: 49 CFR 1.66.

By Order of the Maritime Administrator.
Dated: July 9, 2008.
Christine Gurland,
Acting Secretary, Maritime Administration.

[FR Doc. E8-16259 Filed 7-15-08; 8:45 am]

BILLING CODE 4910-81-P